DEPARTMENT OF THE INTERIOR

Bureau of Reclamation

Southern Delivery System, Fryingpan-Arkansas Project, Colorado

AGENCY: Bureau of Reclamation, Interior.

ACTION: Notice for the extension of the public comment period and the announcement of a public listening session for the Southern Delivery System Draft Environmental Impact Statement (DEIS).

SUMMARY: Reclamation is announcing an extension of the public comment period for the Southern Delivery System DEIS. The original comment period published in the Federal Register (73 FR 11144) was scheduled to end on April 26, 2008. We are now notifying the public that Reclamation is extending the comment period to June 13, 2008.

Reclamation is also announcing a public listening session that will be held in Pueblo, Colorado on May 29, 2008. We are hosting this meeting to provide an additional opportunity for the interested public to provide comments on the DEIS. Reclamation will not be responding to comments or answering questions publically at this meeting. The intent of this meeting is to listen to and record comments made by the public. All comments received on the DEIS will have corresponding responses published in the Final Environmental Impact Statement.

DATES: The public listening session will be held on May 29, 2008 from 6 p.m. to 8 p.m. at the location shown in the Addresses section below. All comments on the DEIS must be received by Reclamation on or before June 13, 2008 at one of the addresses provided below.

ADDRESSES: Written comments on the DEIS can be sent to: Southern Delivery System EIS, Attention: Ms. Kara Lamb, Bureau of Reclamation, Eastern Colorado Area Office, 11056 W. County Road 18E, Loveland, CO 80537-9711. Comments may also be submitted via facsimile at (970) 663-3212 (attention: Ms. Kara Lamb; Southern Delivery System EIS) or e-mail to: klamb@gp.usbr.gov.

The public listening session on May 29, 2008 will be held at the Sangre de Cristo Arts and Conference Center, 210 North Santa Fe Avenue, Pueblo, CO 81003.

FOR FURTHER INFORMATION CONTACT: For copies of the DEIS or the technical reports, please send written requests to Ms. Kara Lamb via the postal or e-mail address provided above. The full reports and documents are also available on the project Web site at: http://www.sdeis.com. For additional information please contact Ms. Kara Lamb at (970) 962-4326.

SUPPLEMENTARY INFORMATION: Reclamation staff will hear from interested members of the public in a formal public hearing forum. Statements will be limited to a maximum of 3 minutes per commenter. For those people wanting to speak at the listening session advance registration is required and is available from 5:30 p.m. to 6 p.m. There will be a third-party moderator to facilitate the process and a court reporter to document the comments.

Copies of the DEIS are available for public inspection and review at the following locations:

• Bureau of Reclamation, Eastern Colorado Area Office, 11056 W. County Road 18E, Loveland, CO 80537.

• Buena Vista/North Chaffee County Library, 131 Linderman Ave., Buena Vista, CO 81211.

• Canyon City Public Library, 516 Macon Ave., Canyon City, CO 81212.

• Pikes Peak Library District—Penrose Library, 20 N. Cascade Ave., Colorado Springs, CO 80903.

• Pueblo City-County Library District, 100 E. Abriendo Ave., Pueblo, CO 81004.

• Woodruff Memorial Library, 522 Colorado Ave., La Junta, CO 81050.

Public Disclosure Statement: Before including your name, address, phone number, e-mail address, or other personal identifying information in your comment, you should be aware that your entire comment—including your personal identifying information—may be made publicly available at any time. While you can ask us in your comment to withhold your personal identifying information from public review, we cannot guarantee that we will be able to do so.

Dated: April 18, 2008.
Donald E. Moomaw,
Deputy Regional Director, Great Plains Region.

[FR Doc. E8-8916 Filed 4-23-08; 8:45 am]

BILLING CODE 4310-MN-P